NATIONAL ARCHIVES AND RECORDS ADMINISTRATION

[NARA-2024-006]

Advisory Committee on the Records of Congress; Meeting

AGENCY: National Archives and Records Administration (NARA).

ACTION: Notice of Federal Advisory Committee meeting.

SUMMARY: We are announcing an upcoming meeting of the Advisory Committee on the Records of Congress in accordance with the Federal Advisory Committee Act. The committee advises NARA on the full range of programs, policies, and plans for the Center for Legislative Archives in the Office of Legislative Archives, Presidential Libraries, and Museum Services (LPM).

DATES: The meeting will be on December 11, 2023, from 10:15 a.m. to 12 p.m. EST.

FOR FURTHER INFORMATION CONTACT: James Wyatt, National Archives, Center for Legislative Archives, by email at James.Wyatt@nara.gov or by phone at 202-357-5016.

SUPPLEMENTARY INFORMATION: This virtual meeting is open to the public in accordance with the Federal Advisory Committee Act (5 U.S.C. app 2) and implementing regulations.

Meeting Information

Meeting link: https://senate.webex.com/senate/j.php?MTID=m38e2fe7a06180f990a755cfa41ede3c3.

Meeting number: 2762 958 2435.

Meeting password: SrM6Gavpw87.

Join from a video or application: Dial 27629582435@senate.webex.com.

You can also dial 207.182.190.20 and enter your meeting number.

Join by phone: +1 202-228-0808 US Senate Webex, +1 855-428-0808 US Senate Webex (Toll Free).

Access code: 27629582435.

Global call-in numbers: https://senate.webex.com/senate/globalcallin.php?MTID=mcf8e47615656e2926077acf6cd6ff1d5.

Agenda

1. Opening Remarks—Ann Berry, Secretary of the Senate

2. Recognition of Co-Chair—Kevin McCumber, Acting Clerk of the House

3. Recognition of the Archivist of the United States—Colleen Shogan

4. Approval of the Minutes of the Last Meeting

5. Senate Archivist's Report—Karen Paul

6. House Archivist's Report—Heather Bourk

7. Center for Legislative Archives Report—Richard Hunt

8. Advisory Committee on the Records of Congress Seventh Report—Karen Paul

9. New Business

10. Adjournment

Tasha Ford,
Committee Management Officer.

[FR Doc. 2023-26849 Filed 12-6-23; 8:45 am]

BILLING CODE 7515-01-P